DEPARTMENT OF THE INTERIOR

Bureau of Land Management

[LLWYR05000 L51100000.GN0000.LVEMK11CW630]

Notice of Intent To Prepare an Environmental Impact Statement for the Sheep Mountain Uranium Project, Fremont County, WY

AGENCY: Bureau of Land Management, Interior.

ACTION: Notice.

SUMMARY: Pursuant to the National Environmental Policy Act of 1969, as amended (NEPA) and the Federal Land Policy and Management Act, as amended (FLPMA), and in response to a proposal filed by Titan Uranium USA, Inc. (Titan), the Bureau of Land Management (BLM), Lander Field Office, Wyoming, intends to prepare an Environmental Impact Statement (EIS) and by this notice is announcing the beginning of the scoping process to solicit public comments regarding issues and resource information for the proposed Sheep Mountain Uranium Project (the Project) in Fremont County, Wyoming. The Project is a conventional uranium exploration and development project employing open pit and underground mining methods and using heap leach methods for uranium recovery.

DATES: This notice initiates the public scoping process. The BLM can best consider public input if comments and resource information are submitted within 45 days of publication of this notice. To provide the public with an opportunity to review the proposal and project information, the BLM will host public meetings in Lander, Riverton, and Jeffrey City, Wyoming. The BLM will announce the dates, times, and locations for these meetings at least 15 days prior to each event. Announcements will be made by news release to the news media, individual letter mailings, and posting on the project Web site listed below. Project information and documents including the submitted Plan of Operations also will be available on the Project Web site.

ADDRESSES: You may submit written comments by any of the following methods:

• E-mail: Sheep_Mountain_Uranium_EIS_WY@BLM.gov

• Mail: Lander Field Office, Attn: Kristin Yannone, Project Manager, 1335 Main Street, Lander, Wyoming 82520

• Project Web site: http://www.blm.gov/wy/st/en/info/NEPA/documents/lfo/sheepmtn.html

Documents pertinent to this proposal may be examined at the Lander Field Office.

FOR FURTHER INFORMATION CONTACT: Kristin Yannone, Project Manager, telephone 307-332-8400; address 1335 Main Street, Lander, WY 82520; e-mail Kristin_Yannone@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The Project is located 8 road miles south of Jeffrey City, Wyoming in Fremont County, Sixth Principal Meridian, Township 28 North, Range 92 West, Sections 16, 17, 20, 21, 22, 27, 28, 29, 32, and 33 in an area of historic uranium mining development, the earliest of which dates back to the 1950s. This area lies 62 road miles southeast of Riverton, Wyoming and 105 road miles west of Casper, Wyoming in the Crooks Gap Mining District.

The project area, which is the same area covered by an existing State of Wyoming mining permit, covers 3,625 surface acres of mixed ownership including 2,313 acres administered by the BLM, 768 acres under State ownership, and 544 acres of private lands. The project area includes 2,836 acres of Federal mineral estate. The BLM Lander Field Office will serve as the lead office for preparing the environmental analysis of the potential impacts of authorizing the surface disturbance for the Project on public lands under the BLM's regulations at 43 CFR part 3809. The potential impacts of constructing and operating a uranium recovery facility within the project boundary will be included in the BLM's analysis. This uranium recovery facility requires a Source Materials License from the U.S. Nuclear Regulatory Commission (NRC) to operate in addition to a surface use authorization from the BLM. The BLM's analysis of any potential impacts from granting surface use authorization for the uranium recovery facility are in addition to the environmental analysis conducted by the NRC as part of its permitting process.

On June 16, 2011, Titan submitted its formal Plan of Operations in accordance with the BLM's surface management regulations at 43 CFR 3809 to develop a conventional mining and heap leach recovery operation.

The purpose of the Project is to identify mining reserves and extract 1.5 million to 2 million pounds of uranium per year over an anticipated project life of 15-20 years. The Project would use conventional open pit and modified room and pillar underground mining methods to extract the ore. Uranium recovery would be performed on-site using heap leach methods and a processing facility to produce yellowcake (uranium oxide-U3O8). Two new declines would be advanced from the surface to access existing underground workings for rehabilitation and further mine development. A series of double-lined pads and ponds would be constructed for the heap-leach facility and a new large building would house the site's processing plant, with a smaller structure for administration and shop facilities.

A total of 466 acres would be disturbed over the life of the mine. This disturbance would consist of 285 acres of new disturbance and 181 acres of existing disturbance which would be re-disturbed. The 466 acres includes 104 acres for the heap leaching and plant operations and 362 acres for mining operations. No new disturbance would be required for access roads.

Both the surface and underground mining may use diesel-powered equipment and blasting to extract and transport the ore to the heap-leach facility and the overburden materials to their temporary and final storage locations. All pit overburden would be temporarily stockpiled on the surface during the initial phases of mining. During later pit mining phases, the overburden and waste material would be stored within previously mined portions of the pit.

After being received at the processing facility, ore would be placed on the double-lined leach pads using a radial belt conveyor. The heap-leach-recovery method applies a sulfuric acid solution (H2SO4) through low-flow emitters on top of the heap for extraction of the uranium mineral from the ore. After the solution containing uranium reaches the desired concentration, it would then be processed through either an ion-exchange system or a solvent extraction system. Spent solutions and process-liquid wastes would be managed in double-lined evaporation ponds on-site, no wastes would be discharged from the site. Individual heaps would be reclaimed in-place after the ore has been fully leached, rinsed of leachate, and drained.

The Project activities would include the drilling of exploratory boreholes, construction of open mine pits, excavation of underground mine declines (low angle access tunnels) and underground mine workings using modified room and pillar methods, rehabilitation of existing mine shafts for ventilation, installation of monitoring wells, construction of uranium processing and waste-water treatment facilities, and development of new and improvement of existing access roads. Interim reclamation activities would be performed to minimize the amount of surface disturbance at any one time.

Surface disturbance would be phased over several years, depending on the uranium production rate and the availability of mine construction equipment and personnel. Titan estimates that approximately 40 acres each year would be disturbed, undergo interim reclamation, and subsequently be returned to wildlife habitat to BLM and State of Wyoming reclamation standards. Final surface reclamation would also be required by regulatory agencies and assured by bonds.

At the end of surface mining, all stockpiled overburden would be returned to the pits and the surface regraded with top soil and seeded for revegetation. All underground mining spoils would remain underground and would be reclaimed within the underground workings. Final reclamation plans include placing all pit mine overburden and spoils back in the mine pits, plugging and abandoning all ventilation shafts and access tunnels, removing all ponds and buried piping, and regrading and revegetating the disturbed surface with native plant species approved by the regulatory agencies. After vegetation has been reestablished, the mine surface would be returned to its premining use of livestock grazing and wildlife habitat or any uses consistent with the then-applicable land use plan.

Depending upon the residual radiological hazards present within the millsite restricted area, administrative jurisdiction of the reclaimed heaps may be required to be transferred to the Department of Energy for long-term custodial care until contamination is deemed no longer a threat to public health and safety.

Titan estimates that the Project would employ a mix of full-time personnel and temporary contractors throughout the life of the mine. During the construction of each mine unit, 20 to 30 full-time employees plus 80 contractors would be employed. During mining operations, about 210 full-time employees plus another 40 contractors would be required. It is likely that the majority would live in Riverton and Lander. The Project is projected to provide an economic benefit through a variety of taxes paid to Federal, State, and local governments to include employee income taxes, severance taxes, property taxes, and sales taxes.

The Project is in conformance with the Lander RMP/Final EIS and ROD, 1987. During the preparation of the EIS, interim exploration and development will be subject to development guidelines and decisions made in applicable NEPA documents, including the Lander RMP and any subsequent revisions. The EIS will analyze the environmental consequences of implementing the Project as proposed and alternatives, including a No Action Alternative. Other alternatives that may be considered in detail could include, for example, reclamation schedule adjustments, or perhaps a different pace of development. The Project would not impair lands with wilderness characteristics.

The purpose of the public scoping process is to determine relevant issues that will influence the scope of the environmental analysis, including alternatives, and guide the process for developing the EIS. At present, the BLM has identified the following preliminary issues: air resources, water resources, wildlife and special status species, vegetative resources, grazing, concerns about risks from selenium, heavy metals and uranium, and long-term post-closure management.

The BLM will utilize and coordinate the NEPA commenting process to help fulfill the public involvement process under Section 106 of the National Historic Preservation Act (16 U.S.C. 470f) as provided for in 36 CFR 800.2(d)(3). Native American tribal consultations will be conducted in accordance with policy, and tribal concerns will be given due consideration, including impacts on Indian trust assets. Federal, State, and local agencies, along with other stakeholders who may be interested in or affected by the BLM's decision on this project, are invited to participate in the scoping process and, if eligible, may request or be requested by the BLM to participate as a cooperating agency. Before including your address, phone number, e-mail address, or other personal identifying information in your comment, you should be aware that your entire comment—including your personal identifying information—may be made publicly available at any time. While you can ask us in your comment to withhold your personal identifying information from public review, we cannot guarantee that we will be able to do so.

Authority: 40 CFR 1501.7.

Donald A. Simpson,
State Director.

[FR Doc. 2011-21563 Filed 8-22-11; 8:45 am]

BILLING CODE 4310-22-P